DEPARTMENT OF HEALTH AND HUMAN SERVICES

Centers for Disease Control and Prevention

[30 Day-16-15AUK]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting System for the Prescription Drug Overdose Prevention for States Cooperative agreement—New—National Center for Injury Prevention and Control (NCIPC), Centers for Disease Control and Prevention (CDC).

Background and Brief Description

Drug overdose is the leading cause of injury death in the United States. Opioid-prescribing behaviors are associated with an increased risk for morbidity and mortality. While opioid pain relievers can play an important role in the management of some types of pain, the overprescribing of these powerful drugs has fueled a national epidemic of prescription drug abuse and overdose. To reverse this complex epidemic and prevent future overdose, abuse, and misuse, the Centers for Disease Control and Prevention (CDC) provides support to states to improve surveillance. Support and guidance for these programs have been provided through cooperative agreement funding and technical assistance administered by CDC's National Center for Injury Prevention and Control (NCIPC).

The Centers for Disease Control and Prevention (CDC) seeks new OMB approval to collect information from awardees funded under the Prescription Drug Overdose Prevention for States (CDC-RFA-CE15-1501) cooperative agreement, for program monitoring and improvement among funded state health departments. Awardees will report progress and activity information to CDC on an annual schedule using an Excel-based fillable electronic templates, pre-populated to the extent possible by CDC staff. In Year 1, each awardee will have additional burden related to initial collection of the reporting tools. After completing the initial population of the tools, pertinent information only needs to be updated for each annual report. The same instruments will be used for all information collection and reporting.

CDC will use the information collected to monitor each awardee's progress and to identify facilitators and challenges to program implementation and achievement of outcomes. Monitoring allows CDC to determine whether an awardee is meeting performance and budget goals and to make adjustments in the type and level of technical assistance provided to them, as needed, to support attainment of their performance measures.

The total estimated annualized burden for this collection is 812 hours. OMB approval is requested for three years. Participation in the information collection is required as a condition of funding. There are no costs to respondents other than their time.

Estimated Annualized Burden Hours
Type of respondents | Form name | Number of respondents | Number of responses per respondent | Average burden per response (in hours)
State and Territorial Health Department Program Awardees | Initial population—Annual reporting—Progress Report Tool | 29 | 1 | 20
| Annual reporting—Progress Report Tool | 29 | 1 | 4
| Annual reporting—Plan Tool | 29 | 1 | 4

Leroy A. Richardson,
Chief, Information Collection Review Office, Office of Scientific Integrity, Office of the Associate Director for Science, Office of the Director, Centers for Disease Control and Prevention.

[FR Doc. 2016-17604 Filed 7-25-16; 8:45 am]

BILLING CODE 4163-18-P